DEPARTMENT OF THE INTERIOR

National Park Service

[NPS-WASO-NAGPRA-NPS0039318; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of unassociated funerary objects or objects of cultural patrimony and that have a cultural affiliation with the Indian Tribes or Native Hawaiian organizations in this notice.

DATES: Repatriation of the cultural items in this notice may occur on or after February 18, 2025.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of 82 cultural items have been requested for repatriation. The five unassociated funerary objects are one lot of ceramic sherds, one lot of lithics, one lot of faunal remains, one lot of geological materials, and one pipe fragment. The 77 of objects of cultural patrimony are 16 lots of lithics, eight lots of metal, 11 lots of faunal, seven lots of botanical materials, two lots of mineralogical materials, one lot of unmodified shell, three lots of ceramics, four lots of glass, one lot of wood, six lots of geological materials, two lots of charcoal, one lot of textile fragments, one lot of rope, one lot of flotation samples, one lot of soil, one lot of plastic, four lots of shell beads, three lots of fire affected rock, two lots of grinding stones, one lot of modified shell, and one steatite ring.

In 1965, the University of California, Riverside Archaeological Research Unit (UCR-ARU) was contracted by the Southern California Gas Company to examine the region surrounding a pipeline along the lower Crowder Canyon area and Cajon Creek. The project, “The Sayles Complex, A Late Milling Stone Assemblage from Cajon Pass, and the Ecological Implications of its Scraper Planes”, was led by Makoto Kowta and carried out by anthropology students from Pasadena City College and the University of California, Riverside. Archaeologists described the site as consisting of a prehistoric midden and historical-period culvert. A total of 1,294 artifacts, including 88 surface specimens, were recovered from the site. The artifacts recovered were several manos (both small and large), pendants, painted stones, milling stones, projectile points and blades, scrapers, bifacial choppers, hammerstones, cores, and miscellaneous small, flaked objects, animal bone, floral material, mineralogical objects, and unmodified shell. Kowta described the site as being “one of the best Milling Stone Horizon sites” in San Bernardino County. All artifacts were cleaned, cataloged, and housed with the Department of Anthropology, University of California, Riverside as accession number 11.

In 1972 an archaeological excavation of CA-RIV-502 (Nibbled Rock Ridge site) in the Jurupa Hills (Riverside, County) was led by Thomas King of the University of California, Riverside Archaeological Research Unit (UCR-ARU). The excavations were undertaken during construction on Route 60 in Riverside County to convert the expressway to full freeway standards. The site was reported by King to have been a large “seed processing site” with a number of grinding “slicks” or metates. In King's 1972 paper, “Nibbled Rock Ridge (CA-RIV-502): A prehistoric milling station in the Jurupa Mountains, Riverside County, California”, he notes that fifteen bedrock grinding slicks were recorded in the site area and estimated a total of 60 slicks existed in the surrounding area. According to King's report burned bones and the “bulk of all cultural materials” were found on the east side of the ridge in a layer of “darkened soil”. A reported “hearth feature” was also found in the same layer with a rhyolite projectile point and a mano. Archaeologists have asserted that Serrano peoples have continuously occupied the San Bernardino Mountains and the Santa Ana River Watershed for up to 5,000-6,000 years BP. Ethnographer John Peabody Harrington recorded several Serrano place names throughout the Watershed during his interviews with Yuhaaviatam leader, Santos Manuel in 1918. Manuel told Harrington that the Santa Ana River is called hu'napat patr, meaning “bears water”.

In 1975, the University of California, Riverside Archaeological Research Unit (UCR-ARU) was contracted to conduct an archaeological evaluation of cultural resources within the Cucamonga Creek and Tributaries Project. The project, UCR-ARU #165, “Environmental Impact Evaluation: Bi-weekly Report of Cultural Resource Survey of Cucamonga, Demens, Deer, and Hillside Creek Channels, San Bernardino and Riverside Counties California”, was led by Patricia Martz and Nelson Leonard. The investigation included an on-foot survey of the project area and excavation of four test units in archaeological site CA-SBR-895. It was identified by Leonard who noted what he believed was a cooking hearth. He believed that the site likely represents a temporary or seasonal camp near the Marrya'yam (Serrano) village of Cucamonga. Archaeologists recovered 14 cultural objects including lithic flakes, ground stones, and faunal remains. The site lies within the boundaries of what representatives of the Yuhaaviatam of San Manuel Nation (also known as the San Manuel Band of Mission Indians) have identified as being part of Serrano ancestral territory.

In 1976 Yucaipa Valley Water District contracted the University of California, Riverside Archaeological Research Unit (UCR-ARU) to evaluate archaeological site CA-SBR-1000 which was likely to be affected by a sewage project in the area. The site is believed to represent the Maara'yam (Serrano) village of Yukaipa't and was first recorded by Gerald Smith of the San Bernardino County Museum (SBCM) in 1974. The site was excavated in multiple phases by UCR archaeology students under the supervision of UCR graduate students Patricia Martz and Eric Ritter, and Nelson Leonard, director of the UCR-ARU. During the first phase of excavation, in August and October of 1976, approximately 903 objects were removed from the site and housed at the San Bernardino County Museum. The second phase of excavations took place in October of 1976 with 2612 cultural objects being removed and stored at SBCM. The final phase of excavation took place in the spring of 1977 which resulted in the recovery of about 143 cultural objects that were subsequently stored at UCR. During this part of the excavation fragments of a human cranium were excavated from unit N-12, which was reportedly a few meters from an area where a burial was excavated in 1958. The human remains were repatriated by UCR to the Yuhaaviatam of San Manuel Nation (also known as the San Manuel Band of Mission Indians) in 2008, but the cultural materials were not included in the repatriation. In 2022, during NAGPRA consultation, tribal representatives of the Yuhaaviatam of San Manuel Nation identified the remaining items in the collection as being unassociated funerary objects. In 2024 the Morongo Band of Mission Indians also identified CA-SBR-1000 as an important village site to their tribal history.

In 1971 the University of California, Riverside Archaeological Research Unit was contacted by the Mojave River Museum Association requesting an emergency salvage excavation of archaeological site CA-SBR-554 (Jellyroll Cave). The members of the association discovered vandalism and looting of the cave resulting in the damage to artifacts and the removal of baskets and other perishable objects. The cave is a small dry cave located in the Ord Mountains that was found by the UCR-ARU to contain well preserved perishable artifacts including a possible rodent snare, cordage and basketry fragments, and botanical materials such as seed and cacti. The roof of the cave appeared to be smoke-blackened and a midden deposit seemed to have formed at the floor of the valley about 5 meters below the mouth of the cave. Materials collected during the excavation were housed at UCR under accession number 48, but were never cataloged or analyzed. In 2022 tribal representatives from the Yuhaaviatam of San Manuel Nation (also known as the San Manuel Band of Mission Indians reviewed the collection and identified it as being a Serrano cache or bundle. A considerable amount of tortoise shell was also found in the cave which tribal representatives noted might have been used in a ceremonial context.

In 1979 the University of California, Archaeological Research Unit (UCR-ARU) was contracted by the Southern California Edison Company to provide cultural resource impact analysis on various portions of transmission line corridors running through the Mojave Desert of California and Nevada. The work mostly consisted of foot survey and field sampling by archaeological surveyors from the UCR-ARU. The survey resulted in the location 61 archaeological sites and 146 isolates and artifacts collected from the surface were subsequently housed at the University of California, Riverside under accession number 70. In 2022, tribal representatives of the Yuhaaviatam of San Manuel Nation (also known as the San Manuel Band of Mission Indians) identified archaeological site CA-SBR-2131, on the Baker Transmission Line, to be a part of Serrano Ancestral territory. They identified a chalcedony biface removed from the site as being an object of cultural patrimony as it represents an important piece of Serrano history and culture.

The University of California, Riverside Archaeological Research Unit (UCR-ARU) conducted an archaeological assessment of a three-mile stretch of road leading from Dale Dry Lake to Amboy Road in 1986 at the request of Western America Ore Company, ahead of potential redevelopment. During the project, led by Adella Schroth of the UCR-ARU, a field survey was conducted with the collection of surface materials subsequently housed at UCR under accession number 117. The survey uncovered one historic site and one prehistoric site. The geographic area is known to the Yuhaaviatam of San Manuel Nation (also known as the San Manuel Band of Mission Indians and the Morongo Band of Mission Indians as Serrano ancestral territory. In 2022, representatives of the Yuhaaviatam of San Manuel Nation reviewed the collection a identified the items as being objects of cultural patrimony. The objects included metal, quartz, lithics, and faunal remains.

In 1989, at the request of the Southwestern Portland Cement Company (SPCC), the University of California, Riverside Archaeological Research Unit (UCR-ARU) conducted a cultural resources assessment of 1028 acres of land. The assessment, led by Joan Schneider and Brook Arkush, consisted of a foot survey and test excavations. The project resulted in the identification of eleven prehistoric archaeological sites. Of these sites, archaeological materials were collected from nine sites and housed at UCR under accession numbers 153 and 180 through 186. These materials included lithics, glass, shell beads, faunal remains, botanical materials, fire affected rock, metal, charcoal, manos and metates, a steatite ring, and geological materials. The sites identified consisted of grinding slicks and bedrock mortars, boulders with cupules, hearths and roasting pits, and fire affected rock scatters. In 2022, during tribal consultation, representatives of the Yuhaaviatam of San Manuel Nation (also known as the San Manuel Band of Mission Indians) identified this project as falling within Serrano ancestral territory.

In 1990, the University of California, Riverside Archaeological Unit (UCRARU) conducted an archaeological assessment of 320 acres of land located southwest of the City of Barstow, in western San Bernardino County, California at the request of Tala-Lynwood, Inc., ahead of a development project. The project, UCRARU #1047, “Environmental Impact Evaluation: An Archaeological Assessment of 320 Acres of Land Located near Barstow in San Bernardino County, California”, was led by Robert Yohe II and Brooke Arkush. During the assessment, an on-site survey was conducted with the collection of surface materials subsequently housed at UCR under accession number 163. The survey uncovered nine prehistoric sites and seven prehistoric isolates. The materials found within the area included lithic scatter, consisting of less than 30 flakes. In 2024, during tribal consultation, representatives of the Yuhaaviatam of San Manuel Nation (also known as the San Manuel Band of Mission Indians) and the Morongo Band of Mission Indians identified this project as falling within Serrano ancestral territory. Tribal representatives identified the lithic materials collected during the project as being objects of cultural patrimony.

In 1992, the University of California, Riverside Archaeological Research Unit (UCRARU) conducted an archaeological assessment on 20 acres of land designated Tentative Parcel 13964, located in the Baldy Mesa area of San Bernardino Country, California at the request of Creative Boundaries, ahead of a proposed development project. The project, UCRARU #1185, “Cultural Resource Assessment: Tentative Parcel 13964 Located near Baldy Mesa in San Bernardino County, California”, was led by Bruce Love and Michael Hogan. The project area is located to the east of Oro Grande Wash, north of the Cajon Summit area of the San Gabriel Mountains. During the assessment, an on-foot survey was conducted with the collection of surface materials subsequently housed at UCR under accession number 208. The survey uncovered two archaeological sites. The archaeologists noted this site as a prehistoric site consisting of a very dark concentration of ash, burned and fire-cracked rock, and at least two formed artifacts, a mano fragment and a quartzite cutting tool were recovered. The geographical location of the area is known to have been occupied by the Marrya'yam (Serrano) during the protohistoric time period.

In 2018, Dudek conducted cultural resources inventory on approximately 686.9 areas of land in Lucerne Valley, San Bernardino County, California at the request of Lendlease Energy Development, ahead of the Calcite Solar Project. The project, “Cultural Resources Inventory and Evaluation Report for the Calcite Solar Project”, was led by Micah Hale. The cultural resource study uncovered 14 sites, seven historic roads, and five isolates in the project area. A total of three test units were excavated, each measuring at approximately 0.5 x 0.25m with 20cm increments to depths no more than 40-60 cm. The materials collected during the project was housed at the University of California, Riverside under accession number 326. During tribal consultation representatives of the Yuhaaviatam of San Manuel Nation (also known as the San Manuel Band of Mission Indians) and the Morongo Band of Mission Indians identified this project as falling within Serrano ancestral territory.

In 1989, the University of California, Riverside Archaeological Research Unit (UCR-ARU) conducted a cultural resource assessment of 132.6 acres of land located in the Manix Basin region of western San Bernardino Country at the request of Ting-Seng Ho, ahead of a development project. The project, UCRARU #1002, “Environmental Impact Evaluation: An Archaeological Assessment of Assessor's Parcel 539-081-03, Located in Manix Basin in San Bernardino County, California”, was led by Philip Wilke and Brooke Arkush. During the assessment, an on-foot survey was conducted with the collection of surface materials subsequently housed at UCR under accession number 480. The assessment uncovered three prehistoric sites and five prehistoric isolates. All three sites are the result of lithic reduction activity, while all five isolates are stone artifacts. The archaeologists noted the presences of lithic cores, various types of flakes, biface fragments, ground stone artifacts, a bifacial core, and one hammerstone. During tribal consultation representatives of the Yuhaaviatam of San Manuel Nation (previously listed as San Manuel Band of Mission Indians, California) and the Morongo Band of Mission Indians, California identified this project as falling within Serrano ancestral territory.

Determinations

The University of California, Riverside has determined that:

• The five unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 77 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Morongo Band of Mission Indians, California, and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 18, 2025. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: January 6, 2025.
Melanie O'Brien,
Manager, National NAGPRA Program.

[FR Doc. 2025-01011 Filed 1-15-25; 8:45 am]

BILLING CODE 4312-52-P